DEPARTMENT OF HEALTH AND HUMAN SERVICES

Centers for Disease Control and Prevention

[60-Day-14-14BA]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to LeRoy Richardson, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Annual Survey of the National Breast and Cervical Cancer Early Detection Program (NBCCEDP) Grantees—New—National Center for Chronic Disease Prevention and Health Promotion (NCCDPHP), Centers for Disease Control and Prevention (CDC).

Background and Brief Description

To improve access to cancer screening, Congress passed the Breast and Cervical Cancer Mortality Prevention Act of 1990 (Public Law 101-354) which directed CDC to create the National Breast and Cervical Cancer Early Detection Program (NBCCEDP). Currently, the NBCCEDP funds 67 grantees including all 50 states, the District of Columbia, 5 U.S. territories, and 11 American Indian/Alaska Native tribes or tribal organizations. Grantees provide screening services for breast and cervical cancer to low-income, uninsured, and underinsured women who otherwise would not have access to screening.

Since 1991, NBCCEDP-funded grantees have served more than 4.3 million women, provided more than 10.7 million breast and cervical cancer screening examinations, and diagnosed more than 56,662 breast cancers, 3,206 invasive cervical cancers, and 152,470 premalignant cervical lesions, of which 41% were high-grade. As a comprehensive, organized screening program, the NBCCEDP supports activities including program management, partnership development, public education and targeted outreach, screening and diagnostic services, patient navigation, quality assurance and quality improvement, professional development, data management and utilization, and program monitoring and evaluation. For clinical service delivery, grantees fund health care providers in their state/territory/tribe to deliver breast and cervical cancer screening, diagnostic evaluation, and treatment referrals for women diagnosed with cancer.

CDC issued a new Funding Opportunity Announcement (FOA) to support a new 5-year cooperative agreement for the NBCCEDP effective July 2012. This new FOA begins to shift the NBCCEDP from a focus on direct service provision to implementation of expanded evidence-based activities intended to increase rates of breast and cervical cancer screening at the population level. Though NBCCEDP grantees continue to provide breast and cervical cancer screening for uninsured and underinsured women, CDC is encouraging the implementation of strategies to increase screening rates beyond that of program-eligible women.

CDC plans to implement an annual survey of NBCCEDP program directors in order to assess program implementation, particularly related to these expanded population-based efforts. The Web-based survey includes questions on respondent background, program activities, clinical service delivery, monitoring and evaluation, partnerships, training and technical assistance needs, and program management. Questions are of various types including dichotomous and multiple response. The estimated burden per response is 45 minutes.

This assessment will enable CDC to gauge its progress in meeting NBCCEDP program goals, identify implementation activities, monitor program transition to efforts aimed at impacting population-based screening, identify technical assistance needs of state, tribe and territorial health department cancer control programs, and identify implementation models with potential to expand and transition to new settings to increase program impact and reach. The assessment will identify successful activities that should be maintained, replicated, or expanded as well as provide insight into areas that need improvement.

OMB approval is requested for three years. Participation is voluntary and there are no costs to respondents other than their time.

Estimated Annualized Burden Hours
Type of respondent | Form name | Number of respondents | Number of responses per respondent | Average burden per response (in hr) | Total burden (in hr)
NBCCEDP Program Directors | CDC National Breast and Cervical Cancer Early Detection Program (NBCCEDP) Grantee Survey of Program Implementation | 67 | 1 | 45/60 | 50

LeRoy Richardson,
Chief, Information Collection Review Office, Office of Scientific Integrity, Office of the Associate Director for Science, Office of the Director, Centers for Disease Control and Prevention.

[FR Doc. 2013-26671 Filed 11-6-13; 8:45 am]

BILLING CODE 4163-18-P